DEPARTMENT OF COMMERCE

National Oceanic and Atmospheric Administration

RIN 0648-XL78

Marine Mammals; File No. 764-1703-02

AGENCY: National Marine Fisheries Service (NMFS), National Oceanic and Atmospheric Administration (NOAA), Commerce.

ACTION: Notice; issuance of permit amendment.

SUMMARY: Notice is hereby given that the National Museum of Natural History, Smithsonian Institution, Washington, D.C. 20008-2598 [Principal Investigator: Charles Potter], has been issued an amendment to scientific research Permit No. 764-1703-01.

ADDRESSES: The amendment and related documents are available for review upon written request or by appointment in the following office:

Permits, Conservation and Education Division, Office of Protected Resources, NMFS, 1315 East-West Highway, Room 13705, Silver Spring, MD 20910; phone (301)713-2289; fax (301)427-2521.

FOR FURTHER INFORMATION CONTACT: Jennifer Skidmore or Amy Sloan (301)713-2289.

SUPPLEMENTARY INFORMATION: The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The Permit authorizes the National Museum of Natural History to collect, obtain, and import/export samples taken from marine mammals of the Orders Pinnipedia (except walrus) and Cetacea for research purposes. This amendment extends the expiration date of the permit to December 31, 2009.

In compliance with the National Environmental Policy Act of 1969 (42 U.S.C. 4321 et seq.), a final determination has been made that the activity proposed is categorically excluded from the requirement to prepare an environmental assessment or environmental impact statement.

Issuance of this permit, as required by the ESA, was based on a finding that such permit: (1) was applied for in good faith; (2) will not operate to the disadvantage of such endangered species; and (3) is consistent with the purposes and policies set forth in section 2 of the ESA.

Dated: November 19, 2008.
P. Michael Payne,
Chief, Permits, Conservation and Education Division, Office of Protected Resources, National Marine Fisheries Service.

[FR Doc. E8-28182 Filed 11-25-08; 8:45 am]

BILLING CODE 3510-22-S